DEPARTMENT OF COMMERCE

National Oceanic and Atmospheric Administration

RIN 0648-XC349

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings in Anchorage, AK.

DATES: The meetings will be held December 3, 2012 through December 11, 2012. See SUPPLEMENTARY INFORMATION for specific dates and times.

ADDRESSES: The meetings will be held at the Anchorage Hilton Hotel, 500 W 3rd Avenue, Anchorage, AK.

Council address: North Pacific Fishery Management Council, 605 W. 4th Avenue, Suite 306, Anchorage, AK 99501-2252.

FOR FURTHER INFORMATION CONTACT: David Witherell, Council staff; telephone: (907) 271-2809.

SUPPLEMENTARY INFORMATION: The Council will begin its plenary session at 8 a.m. on Wednesday, December 5 continuing through Tuesday, December 11. The Scientific Statistical Committee (SSC) will begin at 8 a.m. on Monday, December 3 and continue through Wednesday, December 5, the Council's Advisory Panel (AP) will begin at 8 a.m. on Tuesday, December 4 and continue through Saturday, December 8. The Enforcement Committee will meet Tuesday, December 4, from 1 p.m. to 4 p.m. The Halibut Charter Committee will meet Tuesday, December 4, from 3 p.m. to 7 p.m. All meetings are open to the public, except executive sessions.

Council Plenary Session: The agenda for the Council's plenary session will include the following issues. The Council may take appropriate action on any of the issues identified.

Reports:

1. Executive Director's Report

NMFS Management Report (including report on observer deployment and implementation, report on Essential Fish Habitat (EFH) consultation, update on response to halibut subsistence proposal)

Alaska Department of Fish & Game (ADF&G) Report (including report on Chinook salmon conference and update on halibut subsistence)

NOAA Enforcement Report

United States Coast Guard (USCG) Report (including Aleutian Island Risk Assessment)

United State Fish & Wildlife (USFWL) Report

International Pacific Halibut Commission (IPHC) Report (T)(including a report on the IPHC closed area)(T)

Protected Species Report

2. Groundfish Specifications: Review Gulf of Alaska (GOA) pollock Exempted Fishing Permit (EFP): Adopt final catch specifications for GOA groundfish; Adopt final catch specifications for Bering Sea Aleutian Island (BSAI) groundfish.

3. Salmon Prohibited Species Catch (PSC): Initial review on BSAI Chum Salmon Bycatch; Initial review on GOA Chinook Bycatch All Trawl Fisheries.

4. Halibut Issues: Recommendations for 2013 Charter Halibut; Discussion paper on Community Quota Entity (CQE) small block restrictions; discussion paper on retention of 4A halibut in sablefish pots.

5. Steller Sea Lion (SSL) Mitigation: Identify Alternatives for SSL Environmental Impact Statement (EIS) Analysis.

6. Miscellaneous Groundfish: Progress report on Programmatic Supplemental Environmental Impact Statement (PSEIS)/Supplemental Information Report (SIR); Discussion paper on Vessel Monitoring System (VMS) use and requirements.

7. Staff Tasking: Review Committees and tasking; Review halibut/sablefish Individual Fishing Quota (IFQ) issues for tasking/timing; provide direction on Round Island transit analysis scope, purpose and need.

8. Other Business.

The SSC agenda will include the following issues:

1. Groundfish Specifications

2. Update on Salmon Genetics

3. Review BSAI Salmon Bycatch

4. Review GOA Chinook Bycatch all trawl fisheries

The Advisory Panel will address most of the same agenda issues as the Council except B reports. The Agenda is subject to change, and the latest version will be posted at http://www.alaskafisheries.noaa.gov/npfmc/.

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: November 7, 2012.
Tracey L. Thompson,
Acting Deputy Director, Office of Sustainable Fisheries, National Marine Fisheries Service.

[FR Doc. 2012-27501 Filed 11-9-12; 8:45 am]

BILLING CODE 3510-22-P